DEPARTMENT OF TRANSPORTATION

Federal Aviation Administration

14 CFR Part 39

[Docket No. FAA-2004-19765; Directorate Identifier 2002-NM-72-AD]

RIN 2120-AA64

Airworthiness Directives; BAE Systems (Operations) Limited Model BAe 146 Series Airplanes and Model Avro 146-RJ Series Airplanes

AGENCY: Federal Aviation Administration (FAA), DOT.

ACTION: Notice of proposed rulemaking (NPRM).

SUMMARY: The FAA proposes to adopt a new airworthiness directive (AD) for certain BAE Systems (Operations) Limited Model BAe 146 series airplanes and Model Avro 146-RJ series airplanes. This proposed AD would require repetitive inspections to detect discrepancies of the fuselage skin and reinforcing plates along the wing to fuselage fairing access panels on the left- and right-hand sides of the airplane, and repair if necessary. This proposed AD also would provide for an optional terminating action for the repetitive inspections. This proposed AD is prompted by a report of chafing on the wing to fuselage fairing panels. We are proposing this AD to prevent chafing of the fuselage skin and reinforcing plates, which could lead to reduced structural integrity of the airplane's fuselage.

DATES: We must receive comments on this proposed AD by January 6, 2005.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact British Aerospace Regional Aircraft American Support, 13850 Mclearen Road, Herndon, Virginia 20171.

You can examine the contents of this AD docket on the Internet at http://dms.dot.gov, or in person at the Docket Management Facility, U.S. Department of Transportation, 400 Seventh Street SW., room PL-401, on the plaza level of the Nassif Building, Washington, DC. This docket number is FAA-2004-19765; the directorate identifier for this docket is 2002-NM-72-AD.

FOR FURTHER INFORMATION CONTACT: Technical information: Todd Thompson, Aerospace Engineer, International Branch, ANM-116, FAA, Transport Airplane Directorate, 1601 Lind Avenue, SW., Renton, Washington 98055-4056; telephone (425) 227-1175; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19765; Directorate Identifier 2002-NM-72-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc. You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority (CAA), which is the airworthiness authority for the United Kingdom, notified us that an unsafe condition may exist on certain BAE Systems (Operations) Limited Model BAe 146 series airplanes and Model Avro 146-RJ series airplanes. The CAA advises that it has received a report of chafing of the fuselage skin and reinforcing plates along the wing to fuselage fairing access panels, both left- and right-hand sides. This condition, if not corrected, could result in chafing of the fuselage skin and reinforcing plates, which could lead to reduced structural integrity of the airplane's fuselage.

Relevant Service Information

BAE Systems (Operations) Limited has issued Inspection Service Bulletin ISB.53-162, dated September 12, 2001. The inspection service bulletin describes the following procedures:

• Doing repetitive detailed inspections to detect discrepancies (i.e., chafing outside the limits specified in the service bulletin, scoring, or cracking) of the fuselage skin and reinforcing plates along the wing to fuselage fairing access panels on the left- and right-hand sides of the airplane;

• Contacting the manufacturer for disposition of plate repairs; and

• Submitting an inspection report to the manufacturer.

BAE Systems (Operations) Limited has also issued Modification Service Bulletin SB.53-162-01698A, Revision 1, dated January 31, 2002. The modification service bulletin describes procedures for modifying the fuselage skin at the wing-to-fuselage access panels, doing related investigative actions, and doing corrective actions if necessary, which eliminates the need for the repetitive inspections specified in BAE Systems (Operations) Limited Inspection Service Bulletin ISB.53-162. The modification involves applying protective tape along the fuselage at the access panel seal contact area and to the fuselage at the aft position. The related repetitive investigative actions involve repetitively inspecting the protective tape and sealant for damage and restoring if necessary.

The CAA mandated BAE Systems (Operations) Limited Inspection Service Bulletin ISB.53-162 and issued British airworthiness directive 002-09-2001 to ensure the continued airworthiness of these airplanes in the United Kingdom.

FAA's Determination and Requirements of the Proposed AD

These airplane models are manufactured in the United Kingdom and are type certificated for operation in the United States under the provisions of § 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are proposing this AD, which would require accomplishing the actions specified in BAE Systems (Operations) Limited Inspection Service Bulletin ISB.53-162 described previously, except as discussed under “Differences Between the Proposed AD and the Service Bulletins.” The proposed AD also would provide an optional terminating action that would end the repetitive inspection requirements.

Differences Between the Proposed AD and the Service Bulletins

Operators should note that, although the Accomplishment Instructions of the BAE Systems (Operations) Limited Inspection Service Bulletin ISB.53-162 describe procedures for submitting an inspection report, this proposed AD would not require that action. We do not need this information from operators.

The BAE Systems (Operations) Limited Inspection Service Bulletin ISB.53-162 specifies that you may contact the manufacturer for instructions on how to repair certain conditions, but this proposed AD would require you to repair those conditions using a method that we or the CAA (or its delegated agent) approve. In light of the type of repair that would be required to address the unsafe condition, and consistent with existing bilateral airworthiness agreements, we have determined that, for this proposed AD, a repair we or the CAA (or its delegated agent) approve would be acceptable for compliance with this proposed AD.

Clarification of Service Bulletin Actions

Operators should note that the Accomplishment Instructions of the Modification Service Bulletin SB.53-162-01698A, Revision 1, dated January 31, 2002, describes procedures for doing related repetitive investigative actions, and doing corrective actions if necessary. The related repetitive investigative actions involve inspecting the protective tape and sealant for damage, and restoring if necessary.

Costs of Compliance

This proposed AD would affect about 65 airplanes of U.S. registry. The proposed inspection would take about 4 work hours per airplane, at an average labor rate of $65 per work hour. Based on these figures, the estimated cost of the proposed AD for U.S. operators is $16,900, or $260 per airplane, per inspection cycle.

Authority for This Rulemaking

The FAA's authority to issue rules regarding aviation safety is found in Title 49 of the United States Code. Subtitle I, Section 106, describes the authority of the FAA Administrator. Subtitle VII, Aviation Programs describes in more detail the scope of the agency's authority.

This rulemaking is promulgated under the authority described in Subtitle VII, Part A, Subpart III, Section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited (Formerly British Aerospace Regional Aircraft): Docket No. FAA-2004-19765; Directorate Identifier 2002-NM-72-AD.

Comments Due Date

(a) The Federal Aviation Administration must receive comments on this AD action by January 6, 2005.

Affected ADs

(b) None.

Applicability

(c) This AD applies to BAE Systems (Operations) Limited Model BAe 146 series airplanes and Model Avro 146-RJ series airplanes; certificated in any category; on which modification HCM01037A has been incorporated.

Unsafe Condition

(d) This AD was prompted by a report of chafing on the wing to fuselage fairing panels. We are issuing this AD to prevent chafing of the fuselage skin and reinforcing plates, which could lead to reduced structural integrity of the airplane's fuselage.

Compliance

(e) You are responsible for having the actions required by this AD performed within the compliance times specified, unless the actions have already been done.

Service Bulletin

(f) The term “service bulletin,” as used in this AD, means the Accomplishment Instructions of BAE Systems (Operations) Limited Inspection Service Bulletin ISB.53-162, dated September 12, 2001.

Repetitive Detailed Inspections

(g) Prior to the accumulation of 8,000 total flight cycles, or within 500 flight cycles after the effective date of this AD, whichever occurs later, do a detailed inspection to detect discrepancies (i.e., chafing outside the limits specified in the service bulletin, scoring, or cracking) of the fuselage skin and reinforcing plates along the wing to fuselage fairing access panels on the left- and right-hand sides of the airplane, in accordance with the service bulletin. Repeat the detailed inspection thereafter at intervals not to exceed 4,000 flight cycles, until the terminating action specified in paragraph (i) of this AD has been done.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Corrective Action

(h) If any discrepancy is found during the detailed inspection required by paragraph (g) of this AD, before further flight, repair according to a method approved by either the Manager, International Branch, ANM-116, FAA, Transport Airplane Directorate; or the Civil Aviation Authority (CAA) (or its delegated agent).

Optional Terminating Action and Follow-on Inspections

(i) Modify the fuselage skin at the wing-to-fuselage access panels, do the related repetitive investigative action, and do applicable corrective actions by accomplishing all the actions in accordance with the Accomplishment Instructions of BAE Systems (Operations) Limited Modification Service Bulletin SB.53-162-01698A, Revision 1, dated January 31, 2002. These actions terminate the repetitive inspections required by paragraph (g) of this AD. Repeat the related repetitive investigative action (which involves inspecting the protective tape and sealant for damage) thereafter at intervals not to exceed 4,000 flight cycles.

No Reporting

(j) Although the service bulletin referenced in this AD specifies to submit an inspection report, this AD does not include that requirement.

Alternative Methods of Compliance (AMOCs)

(k) The Manager, International Branch, ANM-116, has the authority to approve AMOCs for this AD, if requested in accordance with the procedures found in 14 CFR 39.19.

Related Information

(l) British airworthiness directive 002-09-2001 also addresses the subject of this AD.

Issued in Renton, Washington, on November 26, 2004.
Ali Bahrami,
Manager, Transport Airplane Directorate, Aircraft Certification Service.

[FR Doc. 04-26799 Filed 12-6-04; 8:45 am]

BILLING CODE 4910-13-P